DEPARTMENT OF COMMERCE

National Oceanic and Atmospheric Administration

[I.D. 071405B]

Endangered and Threatened Species; Take of Anadromous Fish

AGENCY: National Marine Fisheries Service (NMFS), National Oceanic and Atmospheric Administration (NOAA), Commerce

ACTION: Application for a scientific research permit (1535).

SUMMARY: Notice is hereby given that NMFS has received a scientific research permit application request relating to Pacific salmon. The proposed research is intended to increase knowledge of species listed under the Endangered Species Act (ESA) and to help guide management and conservation efforts.

DATES: Comments or requests for a public hearing on the application must be received no later than 5 p.m. Pacific daylight-saving time on August 25, 2005.

ADDRESSES: Written comments on the application should be sent to Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available at http://www.nwr.noaa.gov.

SUPPLEMENTARY INFORMATION:

Species Covered in This Notice

The following listed species (evolutionarily significant unit) is covered in this notice:

Puget Sound (PS) Chinook salmon (Oncorhynchus tshawytscha).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1535

R2 Resource Consultants, Inc. (R2RC) is requesting a 2-year permit to take juvenile PS Chinook salmon during the course of two studies in the lower Green River watershed in Washington State. Study 1 would take place in the Green River Natural Resources Area (GRNRA), near the City of Kent, Washington, and Study 2 would take place in numerous streams and waterways within the City of Kent itself. The purpose of both studies is to ascertain where juvenile salmonids reside within the city's waters. The first study would determine how and when salmonids use the constructed habitat of the GRNRA detention lagoon. The second would identify streams and waterways within the city that contain salmonids. The fish would benefit from the research because the city of Kent would better be able to protect these important habitat areas once they are identified.

R2RC proposes to use two types of electrofishing set-ups: barge-based and backpack. The barge-based system would be used in Study 1, in the GRNRA detention lagoon. The backpack electrofishing unit would be used in Study 2. Depending on flow conditions, a fyke net may be used to monitor fish migration in the GRNRA. The net would be deployed and monitored for five consecutive days. Supplemental sampling may be conducted using minnow traps. All fish would be captured with a dip net and placed into a darkened recovery unit where they would be anesthetized, identified by species, and measured. R2RC does not intend to kill any of the fish being captured in either study, but a small number may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: July 21, 2005.
Donna Wieting,
Deputy Director, Office of Protected Resources, National Marine Fisheries Service.

[FR Doc. 05-14719 Filed 7-25-05; 8:45 am]

BILLING CODE 3510-22-S